DEPARTMENT OF ENERGY

Federal Energy Regulatory Commission

[Docket Nos. OR00-10-000; and OR96-2-000]

Refinery Holding Company, L.P., Complainant, v. SFPP, L.P., Respondent; Notice of Filing

August 31, 2000.

Take notice that on August 29, 2000, pursuant to Rule 206 of the Commission's Rules of Practice and Procedure (18 CFR 385.206) and the Procedural Rules Applicable to Oil Pipeline Procedures (18 CFR 343.1(a)), Refinery Holding Company, L.P. (RHC), tendered for filing a complaint in this proceeding. RHC alleges that SFPP, L.P. (SFPP) has violated and continues to violate the Interstate Commerce Act, 49 U.S.C. App § 1 et seq. by charging unjust and unreasonable rates for the transportation in interstate commerce of petroleum products in its East Line from El Paso, Texas to points in New Mexico and Arizona.

RHC requests that the Commission: (1) Examine SFPP's rates and charges for its jurisdictional interstate East Line service and declare that such rates and charges are unjust and unreasonable; (2) order refunds and reparations to RHC, including appropriate interest thereon, for the applicable refund and reparations periods to the extent the Commission finds that such rates and charges are unlawful; (3) determine just, reasonable, and nondiscriminatory rates for SFPP's jurisdictional interstate East Line service; (4) award RHC reasonable attorneys' fees and costs and reasonable experts' fees and costs; and (5) order such other and further relief as may be appropriate.

RHC states that it has served the complaint on SFPP. Pursuant to Rule 206(f) of the Commission's Rules of Practice and Procedure, answers to this complaint are due on September 18, 2000.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before September 8, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222) for assistance).

Linwood A. Watson, Jr.,
Acting Secretary.

[FR Doc. 00-22858 Filed 9-6-00; 8:45 am]

BILLING CODE 6717-01-M